DEPARTMENT OF HEALTH AND HUMAN SERVICES

Health Resources and Services Administration

Advisory Commission on Childhood Vaccines; Notice of Meeting Cancellation

Notice is hereby given of the cancellation of the Advisory Commission on Childhood Vaccines (ACCV) Meeting, September 7, 2007, 9 a.m. to 5 p.m., Parklawn Building (and via audio conference call), Conference Rooms G & H, 5600 Fishers Lane, Rockville, MD 20857, which was published in the Federal Register on August 15, 2007, 72 FR 45822-45823.

Dated: August 21, 2007.
Alexandra Huttinger,
Acting Director, Division of Policy Review and Coordination.

[FR Doc. E7-16868 Filed 8-24-07; 8:45 am]

BILLING CODE 4165-15-P